ENVIRONMENTAL PROTECTION AGENCY

40 CFR Part 300

[EPA-HQ-SFUND-1983-0002; FRL-9980-73—Region 4]

National Oil and Hazardous Substances Pollution Contingency Plan; National Priorities List: Deletion of the Whitehouse Oil Pits Superfund Site

AGENCY: Environmental Protection Agency.

ACTION: Proposed rule; notice of intent.

SUMMARY: The Environmental Protection Agency (EPA) Region 4 is issuing a Notice of Intent to Delete the Whitehouse Oil Pits Superfund Site (Site) located in Whitehouse, Florida, from the National Priorities List (NPL) and requests public comments on this proposed action. This site is also known as the Whitehouse Waste Oil Pits Site. The NPL, promulgated pursuant to section 105 of the Comprehensive Environmental Response, Compensation, and Liability Act (CERCLA) of 1980, as amended, is an appendix of the National Oil and Hazardous Substances Pollution Contingency Plan (NCP). The EPA and the State of Florida (State), through the Florida Department of Environmental Protection (FDEP), have determined that all appropriate response actions under CERCLA, other than operations and maintenance, monitoring and five-year reviews, have been completed. However, this deletion does not preclude future actions under Superfund.

DATES: Comments must be received by August 16, 2018.

ADDRESSES: Submit your comments, identified by Docket ID no. EPA-HQ-SFUND-1983-0002 by one of the following methods:

(1) http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

(2) Email: Rusty Kestle, Remedial Project Manager, kestle.rusty@epa.gov.

(3) Mail: Rusty Kestle, Remedial Project Manager, Superfund Restoration and Sustainability Branch, Superfund Division, U.S. Environmental Protection Agency, Region 4, 61 Forsyth Street SW, Atlanta, Georgia 30303-8960.

(4) Hand delivery: USEPA Region 4, 61 Forsyth Street SW, Atlanta, Georgia 30303-8960. Attention: Rusty Kestle, Remedial Project Manager, Superfund Restoration and Sustainability Branch. Hours of Operation: Monday to Friday 7:30 a.m. to 4:30 p.m. Phone: 404-562-8819.

Instructions: Direct your comments to Docket ID no. EPA-HQ-SFUND-1983-0002. The EPA's policy is that all comments received will be included in the public docket without change and may be made available online at http://www.regulations.gov, including any personal information provided, unless the comment includes information claimed to be CBI or other information whose disclosure is restricted by statute. Do not submit information that you consider to be CBI or otherwise protected through http://www.regulations.gov or email. The http://www.regulations.gov website is an “anonymous access” system, which means the EPA will not know your identity or contact information unless you provide it in the body of your comment. If you send an email comment directly to the EPA without going through http://www.regulations.gov, your email address will be automatically captured and included as part of the comment that is placed in the public docket and made available on the internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at:

(1) USEPA Region 4, 61 Forsyth Street SW, Atlanta, GA 30303-8909, Monday through Friday, 7:30 a.m. to 4:30 p.m., Contact Tina Terrell 404-562-8835; and

(2) West Regional Jacksonville Public Library, 1425 Chaffee Rd. S, Jacksonville, FL 32221, Monday-Thursday 10:00 a.m. to 9:00 p.m., Friday and Saturday 10:00 a.m.-6:00 p.m., Sunday CLOSED.

FOR FURTHER INFORMATION CONTACT: Rusty Kestle, Remedial Project Manager, Superfund Restoration and Sustainability Branch, Superfund Division, U.S. Environmental Protection Agency, Region 4, 61 Forsyth Street SW, Atlanta, GA 30303-8960, phone 404-562-8819, email: kestle.rusty@epa.gov.

SUPPLEMENTARY INFORMATION:

Table of Contents

I. Introduction

II. NPL Deletion Criteria

III. Deletion Procedures

IV. Basis for Intended Site Deletion

I. Introduction

The EPA announces its intent to delete the Whitehouse Oil Pits Superfund Site from the NPL and requests public comment on this proposed action. The NPL constitutes Appendix B of 40 CFR part 300 which is the NCP, which the EPA promulgated pursuant to section 105 of the Comprehensive Environmental Response, Compensation and Liability Act (CERCLA) of 1980, as amended. The EPA maintains the NPL as the list of sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

The EPA will accept comments on the proposal to delete this site for thirty (30) days after publication of this document in the Federal Register.

Section II of this document explains the criteria for deleting sites from the NPL. Section III discusses procedures that the EPA is using for this action. Section IV discusses the Whitehouse Oil Pits Superfund Site and demonstrates how it meets the deletion criteria.

II. NPL Deletion Criteria

The NCP establishes the criteria that the EPA uses to delete sites from the NPL. In accordance with 40 CFR 300.425(e), sites may be deleted from the NPL where no further response is appropriate. In making such a determination pursuant to 40 CFR 300.425(e), the EPA will consider, in consultation with the State, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERCLA section 121(c) and the NCP, the EPA conducts five-year reviews (FYRs) to ensure the continued protectiveness of remedial actions where hazardous substances, pollutants, or contaminants remain at a site above levels that allow for unlimited use and unrestricted exposure. The EPA conducts such FYRs even if a site is deleted from the NPL. The EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) The EPA consulted with the State before developing this Notice of Intent to Delete.

(2) The EPA has provided the State 30 working days for review of this notice prior to publication of it today.

(3) In accordance with the criteria discussed above, the EPA has determined that no further response is appropriate.

(4) The State, through the FDEP, has concurred with deletion of the Site from the NPL.

(5) Concurrently with the publication of this Notice of Intent to Delete in the Federal Register, a notice is being published in a major local newspaper, The Florida Times-Union. The newspaper notice announces the 30-day public comment period concerning the Notice of Intent to Delete the site from the NPL.

(6) The EPA placed copies of documents supporting the proposed deletion in the deletion docket and made these items available for public inspection and copying at the Site information repositories identified above.

If comments are received within the 30-day public comment period on this document, the EPA will evaluate and respond appropriately to the comments before making a final decision to delete. If necessary, the EPA will prepare a responsiveness summary to address any significant public comments received. After the public comment period, if the EPA determines it is still appropriate to delete the Site, the Regional Administrator will publish a final Notice of Deletion in the Federal Register. Public notices, public submissions and copies of the responsiveness summary, if prepared, will be made available to interested parties and in the Site's information repositories listed above.

Deletion of a site from the NPL does not itself create, alter, or revoke any individual's rights or obligations. Deletion of a site from the NPL does not in any way alter the EPA's right to take enforcement actions, as appropriate. The NPL is designed primarily for informational purposes and to assist the EPA management. Section 300.425(e)(3) of the NCP states that the deletion of a site from the NPL does not preclude eligibility for future response actions, should future conditions warrant such actions.

IV. Basis for Intended Site Deletion

The following information provides the EPA's rationale for deleting the Site from the NPL:

Site Background and History

The Whitehouse Oil Pits Superfund Site is an abandoned waste oil sludge disposal facility located in Whitehouse, about 10 miles west of downtown Jacksonville, Duval County, Florida. The Site occupies seven acres west of Chaffee Road, about four tenths of a mile north of U.S. Highway 90. Between 1958 and 1968, Allied Petro Product, Inc. (Allied), disposed of contaminated acidic waste oil sludge from their oil reclaiming operations in seven unlined pits on the Site. Allied operated the Site as a repository for waste oil sludge and acidic oil re-refinery byproducts from 1958 until 1968. The waste oil recovery process used an acid-clay process to form corrosive by-products including waste-acid tar and spent acidic clays. Allied constructed the first pits in 1958 to dispose of waste oil sludge and acid from its oil reclaiming process, and by 1968 the company had constructed and filled seven pits. The EPA later found that the waste contained Polycyclic Aromatic Hydrocarbons (PAHs), Polychlorinated Biphenyls (PCBs) and heavy metals, which impacted soil, groundwater, surface water and sediment. Allied went bankrupt in 1968 and the pits containing wastes were abandoned; the City of Jacksonville assumed ownership of the Site by tax default.

In 1968, the diking around pit number 7 ruptured and spilled waste into the McGirts Creek tributary and neighboring private properties. The pit was backfilled following this incident. The City of Jacksonville recognized the need to take action to prevent further spread of contamination. The Jacksonville Mosquito Control Branch began building water-oil separators with limestone filters at the Site, but was not able to finish construction due to budget issues. Wastewater from the pits continued to be released into the adjacent wetland area and the McGirts Creek tributary. These releases resulted in contamination of surface water and sediment. In 1976, the Jacksonville Mosquito Control Branch implemented a dike wall reconstruction project at the Site when an estimated 200,000 gallons of waste oil spilled on the adjacent land and creek. On June 29, 1976, the EPA Region 4's Environmental Emergency Branch was contacted by the City of Jacksonville following the 200,000-gallon oil spill. The EPA began the spill assessment and cleanup of McGirts Creek under section 311 of the Clean Water Act, spending about $200,000 in the process. The EPA, in conjunction with the City of Jacksonville, constructed a treatment system to drain the pits.

After draining water from the pits, the Jacksonville Mosquito Control Branch took measures to stabilize the ponds. Since the remaining viscous waste oil sludge would not support heavy construction equipment, the ponds were backfilled with selected construction debris, scrap lumber, trees, wood chips and non-degradable wastes. A three-inch layer of automobile shredder waste was placed on top of these materials. The liquid portion of the waste oil sludge was pumped off, mixed with a stabilizing agent, and then used as a backfill/sealer over the automobile shredder waste. The relatively impervious layer of stabilizing agent and oil was intended to prevent vertical percolation of rainwater. The stabilizing agent and oil mixture was covered with eight to twelve inches of clean earth (mostly sand). After the project ran out of stabilizing agent, local clay was substituted as a landfill capping material. The Site was then planted with local grasses and ditches were constructed to control drainage.

In 1979, monitoring by the City of Jacksonville showed the continuing release of contaminants to surface water and groundwater which the City of Jacksonville attempted to address by covering the surface and sides of the pits and dike with six inches of low-permeability local clay, followed by twelve inches of topsoil. This cover was revegetated using local grasses. The drainage was modified to control leachate seepage into the ditches. The dikes around the pits were strengthened and drop structures were constructed to control flow velocity and erosion in the ditches. The modified drainage configuration diverted surface water away from the landfill, thus reducing the mechanism for contaminant transport. This second stabilization project was completed during the summer of 1980.

On December 30,1982 (47 FR 58476), the Site was proposed for listing on the EPA's NPL. The Site's listing on the NPL was finalized on September 8, 1983 (48 FR 40865). The Site ID is FLD980602767.

Remedial Investigation and Feasibility Study (RI/FS)

In 1983, the Florida Department of Environmental Regulation (FDER), which is now referred to as the FDEP, completed a remedial investigation (RI) under a cooperative agreement with the EPA. The RI characterized Site wastes and the extent of contamination. The Site's RI showed contamination of soil, groundwater, surface water, and sediment with numerous organic compounds, including PAHs and PCBs, and heavy metals. In 1985, the EPA completed a feasibility study (FS), which evaluated risk and remedial alternatives for the Site. The risk assessment indicated that the greater risk was posed by migration of contaminants into drinking water supplies. Several alternative remedies were considered: No action; no action with groundwater monitoring; excavation with variations that included a treatment or offsite disposal of soil, sludges, and sediment and treatment of groundwater; and excavation, extraction, and treatment supplemented by construction of a barrier wall to contain the remaining contaminated media and prevent its leaching into the groundwater and surface water.

Ultimately, several remedies were required over time to address the contamination or prior remedy failures. The remedies were selected in a 1985 Record of Decision (ROD), revised in an amended ROD (AROD) in 1992, and then further revised in the 1998 AROD based on additional investigations and a treatability study. An Explanation of Significant Differences (ESD) was issued in 2001.

Selected Remedies

1985 ROD

Based on the findings of the 1985 RI/FS, the EPA issued a ROD on May 30, 1985. Remedial action objectives (RAOs) defined in the 1985 ROD included:

1. Prevent further migration of contaminated groundwater into the underlying aquitard.

2. Prevent contamination of the local drinking water supply.

3. Reduce or eliminate migration of contamination to surface water.

4. Eliminate the source sludge, treat the source sludge to a less hazardous or non-hazardous state, or contain the release of the hazardous pollutants offsite.

5. Reduce or eliminate the migration of contaminated soils and sediments.

The remedy components included in the 1985 ROD were:

1. Installation of a slurry wall around the Site, isolating the waste.

2. Recovery and treatment of contaminated groundwater within the walled area, thus contributing to waste isolation.

3. Removal of contaminated sediment from the northeast tributary of McGirts Creek and placement within the isolation area.

4. Construction of a surface cap over the Site to reduce the flow of water into the walled area.

The 1985 ROD did not provide a tabulation of specific remediation goals. However, the goals were generally defined to meet the FDER's drinking water standards and surface water quality criteria. Where no cleanup criteria had been established, the cleanup goals were set at background or minimal risk levels.

1992 AROD

The EPA began but suspended implementation of the 1985 remedy for several reasons, including failure of the cap, a determination that the groundwater treatment methodology was inappropriate for the Site, discovery that the analysis of the shallow aquifer was unreliable, and realization that the operations and maintenance costs were grossly underestimated. Moreover, in 1986, Congress amended CERCLA by passing the Superfund Amendments and Reauthorization Act (SARA) which stressed the importance of permanent remedies. As a result, the EPA reevaluated the 1985 remedy and began to search for alternatives that would permanently and significantly reduce the mobility, toxicity, and volume of hazardous substances at the Site. The EPA conducted additional studies between 1989 and 1992. These studies included a baseline risk assessment, a supplemental feasibility study, and a treatability study in 1991 to examine a treatment train of soils washing, biological treatment and stabilization. The studies led to the EPA's issuance of an AROD on June 16, 1992 (the 1992 AROD). Under the 1992 AROD, the cleanup objectives were to prevent current and future exposure to contaminated groundwater.

The remedy components included in the 1992 AROD were:

1. Excavation of contaminated waste pits.

2. Separation of construction debris, stumps, etc., from contaminated soils and steam cleaning prior to offsite disposal.

3. Volume reduction by soils washing.

4. Biotreatment to biologically degrade wash water contaminants.

5. Stabilization/solidification of biotreated material exceeding cleanup criteria.

6. On-site disposal of washed soils and stabilization/solidification of contaminant fines and sludge.

7. Extraction and treatment of contaminated groundwater using activated carbon and chemical precipitation, with discharge to the northeast tributary of McGirts Creek.

8. Installation and maintenance of a six-inch vegetative cover over the excavated area.

9. Installation and maintenance of a fence around the Site during remedial activities.

10. Implementation of institutional controls (ICs), including deed restrictions.

The 1992 AROD included contingencies if groundwater recovery and treatment were determined to be ineffective. Contingencies included:

1. Containment measures involving engineering controls or long-term gradient controls.

2. Waiver of chemical-specific ARARs for the aquifer based on the technical impracticability of achieving further contaminant reduction.

3. Institutional controls for groundwater.

4. Continued monitoring of on-site and off-site wells.

Cleanup goals were developed for soils and groundwater in the 1992 AROD. Following the signing of the 1992 AROD, the EPA issued special notice letters to initiate negotiations with the potentially responsible parties (PRPs). Because a settlement could not be reached, the EPA proceeded with a fund-lead remedial design. During the design phase for the 1992 AROD remedy, the EPA discovered most of the components of the treatment train identified for source materials would not work. For example, lead concentrations and pH levels encountered in the waste sludge would be toxic to bacteria, rendering biological treatment ineffective. In April 1994, the EPA and the PRPs, the Whitehouse Remedial Action Group (WRAG), signed an Administrative Order on Consent (AOC) under which the PRPs conducted the additional studies. The results of those studies indicated that additional treatability and feasibility studies were required. In January1995, the WRAG agreed to modify the AOC with the EPA to perform the additional work. After completing these additional studies, the WRAG prepared and finalized the supplemental treatability and feasibility study (FS) in July 1997.

1998 AROD

Based on the treatability and feasibility study findings in July 1997, the EPA issued an AROD in September 1998 to incorporate elements of the contingency remedy in the 1992 AROD, as well as elements of the original 1985 ROD. The 1998 AROD addressed all contaminated media at the Site by containing the onsite waste sludge, contaminated soils, wetlands, sediment and groundwater. The remedy's function was to isolate the Site as a source of groundwater and surface water contamination and reduce the risks associated with exposure to the contaminated materials.

The major components of the selected remedy included:

1. In-situ stabilization/solidification treatment of lifts 1 (topsoil and clay) and 2 (thin layer of shredded foam rubber and plastic overlying a layer of sawdust, wood chips, dimensional lumber, debris and silty sand) with a geogrid to enhance structural stability.

2. Installation of a slurry wall (slurry wall or geosynthetic sheet pile wall) to isolate and contain contaminated soils, sludge, wetlands, sediments and groundwater.

3. Installation of a lime curtain inside the containment system to adjust groundwater pH.

4. Construction of a low permeability cap over the contained area that meets Resource Conservation and Recovery Act (RCRA) closure requirements under 40 CFR 264.228(a)(2).

5. Realignment of the McGirts Creek tributary to optimize the area of groundwater containment.

6. Extension of the municipal water supply to residents along Machelle Drive and Chaffee Road and plugging of private supply wells.

7. Installation of a permanent security fence around the containment area and installation and maintenance of appropriate storm water management controls.

8. Monitored natural attenuation of contaminated groundwater outside the containment system.

9. Sampling of offsite surface soils and downstream surface water and sediment during design to determine if additional measures are necessary.

10. Imposition of deed restrictions to control future land and groundwater use.

The AROD established cleanup goals for groundwater and soils based on federal or state primary maximum contaminant levels (MCLs) or risk based numbers. These cleanup goals and the source of the cleanup level can be found Tables 8-1 and 8-2 of the Final Risk Assessment, dated September 1, 1991, and Table 2-1 of the Final Remedial Action Report. Soils contaminants of concern addressed by the remedy include organic compounds (Benzene, Benzo(a)pyrene, Bis (2-Ethyl Hexyl) Phthalate, Chlorobenzene, 1,4-Dichlorochlorobenzene, Di-N-Butyl Phthalate, Methylene Chloride, Polychlorinated Biphenyls (PCB) 1260, 2-Methylnaphthalene, Naphthalene, Phenol, Tetrachloroethene, Toluene and Trichloroethene) and inorganic compounds (Antimony, Arsenic, Barium, Cadmium, Chromium, Copper, Lead and Nickel). Groundwater contaminants of concern include organic compounds (Acetone, Benzene, Benzo(a)pyrene, Bis (2-Ehtyl Hexyl) Phthalate, Carbon Disulfide, Di-N-Butyl Phthalate, Ethylbenzene, Methyl Ethyl Ketone, 3/4 Methylphenol, Naphthalene, 2-Methylnaphthalene, Phenol, Toluene, Trichloroethene and Xylene) and inorganic compounds (Antimony, Arsenic, Barium, Cadmium, Chromium, Copper, Lead, Manganese, Nickel, Selenium, Vanadium and Zinc).

2001 ESD

An ESD was issued in 2001 to remove the lime curtain from the selected remedy due to concerns that it might adversely affect the sodium based slurry wall. The ESD also increased the size of the slurry wall, size of the cap, and area of the tributary to be realigned based on the discovery of additional contamination.

Remedial action objectives (RAOs) established in the 1985 ROD and adopted in the 1998 AROD address groundwater, surface water, sludge, sediment and soils. The 2001 ESD did not alter the original RAOs. The RAOs include:

1. Prevent further migration of contaminated groundwater into the underlying aquitard.

2. Prevent contamination of the local drinking water supply.

3. Reduce or eliminate migration of contamination to surface water.

4. Eliminate the source sludge, treat the source sludge to a less hazardous or non-hazardous state, or contain the release of the hazardous pollutants off site.

5. Reduce or eliminate the migration of contaminated soils and sediments.

Response Actions

Response actions are discussed above. Construction of the remedy began in 2003 and was completed in May 2007 with the finalization of the Remedial Action Report. The City of Jacksonville, now the owner of the property comprising the Site, entered into a restrictive covenant with FDEP on January 27, 2011. This institutional control restricts activities on the property and the future use of the property.

Cleanup Levels

Groundwater sampling events have occurred at the Site since August 2006 when the first year of operations maintenance and monitoring (OM&M) began and have continued over the last ten years under the thirty-year OM&M Plan. The groundwater levels are determined inside the barrier wall and groundwater levels and monitoring data are collected at monitoring wells outside of the barrier wall. Contaminants 1,4-dichlorobenzene, chlorobenzene, methylene chloride, tetrachloroethene, di-n-butyl phthalate, and PCB-1260 were sampled for during the first quarter of groundwater sampling. The sampling verified that these contaminants were not found at detectable levels outside of the barrier wall and would not require monitoring during future sampling. Manganese has been detected at levels slightly above the State of Florida secondary MCL of 50 ppb upgradient and downgradient of the contaminant source. Therefore, the elevated manganese levels are not thought to be Site related. Monitoring for manganese will continue and action will be taken if levels continue to be elevated and are determined to be Site related. All other groundwater COCs were monitored regularly over the last ten years and their detected levels were below cleanup levels; this includes groundwater arsenic concentrations which have largely been below 1 µg/L. The highest reading was less than 2 µg/L which is well below the current MCL of 10 µg/L. Groundwater is the only media that is monitored at the Site because the remaining contamination in soils and sediment is contained within a barrier wall and cap that prevents lateral contaminant migration.

Operations, Monitoring and Maintenance (OM&M)

The OM&M Plan for the Site was approved by the EPA and OM&M activities began in July 2006, and continue to this day. The scope of the OM&M Plan included monthly Site inspections to monitor the following components, except for passive gas management (quarterly) and wetland planting monitoring (semi-annual):

1. Closure cap.

2. Passive gas management system.

3. Storm water management system.

4. Created wetland planting areas.

5. Site security system.

6. Groundwater monitoring system.

In addition to inspecting the remedial components above, the cap is mowed on a quarterly basis. Originally, water levels of wells inside and outside of the barrier wall were monitored on a monthly basis to evaluate the performance of the barrier wall. Groundwater wells were sampled semi-annually for Volatile Organic Compounds (VOCs), Semi-Volatile Compounds (SVOCs) and metals. In April 2013, the EPA and FDEP agreed that sampling could be limited to metals. Now, the monitoring program consists of semi-annual monitoring of 23 wells for metals only and semi-annual water level monitoring of 23 wells and 6 piezometers. At this time, all sampling data are below cleanup criteria. The Site is owned by the City of Jacksonville, which is part of the WRAG PRP group. ICs are maintained by the PRP group through OM&M inspections. City/county zoning and permitting requirements for land and groundwater use in the area add another layer of protection.

Five-Year Reviews (FYR)

Pursuant to CERCLA section 121(c), 42 U.S.C. 9601 et seq., and the EPA's FYR Guidance, statutory FYRs are required for the Whitehouse Oil Pits Superfund Site because the completed remedy does not allow for unlimited use and unrestricted exposure. The first FYR was completed on November 13, 2008, which was five years after onsite construction activities began. The second FYR was signed on May 7, 2014 and indicated that the remedy was still protective of human health and the environment. A multilayered cap covers all impacted soils; a barrier wall contains the contaminated groundwater; and the municipal water supply was extended to residents who live near the Site. The cap, together with the containment provided by the slurry wall, prevents contamination from entering the groundwater and migrating offsite into the soil, groundwater, surface water, and sediment.

The 2014 FYR stated the remedy was protective only in the short term and included two issues and recommendations. The Operations, Maintenance and Monitoring (OM&M) Plan did not include contingency activities to address groundwater overtopping the containment area and internal flow gradients had not been adequately monitored to assess the structural integrity of the containment system. Recommendations were made to continue to monitor metals concentrations in the groundwater and to modify the OM&M Plan. The OM&M Plan was modified in June 2015 to include more specific contingency actions to address groundwater overtopping the containment area and include monitoring of groundwater flow gradients inside and outside the barrier wall to assess the effectiveness of the containment remedy. Monitoring of groundwater for metals continues. Required actions were completed to make the Site protective of human health and the environment. However, the EPA does not consider groundwater overtopping the containment area to be a justifiable concern for several reasons: (1) The average depth of the barrier wall was designed to extend through the full depth of the surficial unconfined aquifer and key into the underlying semi-confining strata (estimated to be 40 ft.), thus, there can be no lateral or vertical movement of groundwater into the containment area; (2) the entire Site is covered with a multi-layered cap system with a permeability of at least 1E-07 intended to shed any rainwater falling on the cap; (3) the cap system has a network of internal drains which carry any flows penetrating the cap to the ditch system surrounding the cap; and (4) there is no evidence that groundwater levels within the barrier wall are trending up. The Site will continue to be monitored as part of the OM&M Plan and the next FYR is due May 2019.

Community Involvement

Community involvement activities were undertaken throughout the thirty-year history of the Site in the form of public meetings, FYR interviews and Site update mail-outs. There are currently no major community concerns about the Site. The FYR community involvement process will continue to monitor any potential community concerns.

The residents of the surrounding neighborhood stated in the 2013 Site interviews that they are concerned about periodic flooding that occurs in their yards after heavy rains. However, the main factor that is contributing to flooding in the McGirts Creek floodplain is not Site related; the construction of dams by beavers in McGirts Creek is responsible for flooding problems in the area. In the past, the beaver dams were removed by the Site contractors as a courtesy, but has never been part of the actual OM&M Plan requirements. The beaver dam issue has been communicated to the residences of the surrounding neighborhood and the residents are responsible for taking any action to remove beaver dams in the future.

Determination That the Site Meets the Criteria for Deletion in the NCP

The implemented remedy achieves the degree of cleanup and protection specified in the RODs for the Site for all pathways of exposure. The selected remedy at the Site is protective of human health and the environment because all exposure pathways that could result in unacceptable risks are being controlled. Contamination remaining onsite is being contained to the capped portion. The barrier walls were designed and constructed to contain the contamination and prevent any lateral or vertical movement of groundwater in or out of the containment area; ICs are in place in the form of land and groundwater use restrictions. These ICs are in the form of a Declaration of Restrictive Covenant executed between FDEP and the City of Jacksonville. This IC was executed on the 2nd of February 2011, and restricts activities on the property and the future use of the property. All selected remedial and removal actions, remedial action objectives, and associated cleanup goals are consistent with the EPA policy and guidance; the EPA has followed the procedures required by 40 CFR 300.425(e) and these actions, objectives and goals have all been achieved and, therefore, no further Superfund response is needed to protect human health and the environment.

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: July 3, 2018.
Onis “Trey” Glenn, III,
Regional Administrator, Region 4.

[FR Doc. 2018-15242 Filed 7-16-18; 8:45 am]

BILLING CODE 6560-50-P